POSTAL SERVICE BOARD OF GOVERNORS

Sunshine Act Meeting

Date and Time: Wednesday, November 12, 2008, at 12:30 p.m.; and Thursday, November 13, 2008, at 8:30 a.m. and 11a.m.

Place: Washington, DC, at U.S. Postal Service Headquarters, 475 L'Enfant Plaza, SW., in the Benjamin Franklin Room.

Status: November 12—12:30 p.m.—Closed; November 13—8:30 a.m.—Open; November 13—11 a.m.—Closed.

Matters to be Considered:

Wednesday, November 12 at 12:30 p.m. (Closed)

1. Strategic Issues.

2. Financial Matters.

3. Pricing.

4. Personnel Matters and Compensation Issues.

5. Governors' Executive Session—Discussion of prior agenda items and Board Governance.

Thursday, November 13 at 8:30 a.m. (Open)

1. Minutes of the Previous Meetings, September 23-24, and October 20-21, 2008.

2. Remarks of the Chairman of the Board.

3. Remarks of the Postmaster General and CEO.

4. Committee Reports.

5. Quarterly Report on Service Performance.

6. Consideration of Fiscal Year 2008 Audited Financial Statements and Postal Service Annual Report.

7. Tentative Agenda for the December 2-3, 2008, meeting in Washington, DC.

Thursday, November 13 at 11 a.m. (Closed)—If Needed

1. Continuation of Wednesday's closed session agenda.

FOR FURTHER INFORMATION CONTACT: Julie S. Moore, Secretary of the Board, U.S. Postal Service, 475 L'Enfant Plaza, SW., Washington, DC 20260-1000. Telephone (202) 268-4800.

Julie S. Moore,
Secretary.

[FR Doc. E8-26555 Filed 11-4-08; 11:15 am]

BILLING CODE 7710-12-P